DEPARTMENT OF DEFENSE

Department of the Army; Corps of Engineers

Availability for Exclusive, Partially Exclusive, or Non-Exclusive Licensing of U.S. Patent Application No. 12/432,842 Filed April 30, 2009 Entitled: “A Soil Stabilization System, Stabilized Soil Comprising Same, and a Method of Stabilizing Soil”

AGENCY: Department of the Army, U.S. Army Corps of Engineers, DOD.

ACTION: Notice.

SUMMARY: This announcement serves as notice of the availability of technology for licensing. This invention has non-government co-inventors and this announcement pertains only to the licensing of the federal government's rights, not those of the non-government co-inventors.

DATES: Proposals for an exclusive, partially exclusive, or non-exclusive license must be submitted within 60 days after the publication of this notice.

ADDRESSES: United States Army Engineer Research and Development Center, Waterways Experiment Station, ATTN: CEERD-ZA-T (Mr. Phillip Stewart), 3909 Halls Ferry Road, Vicksburg, MS 39180-6199.

FOR FURTHER INFORMATION CONTACT: Mr. Phillip Stewart, (601) 634-4113, FAX (601) 634-4180, e-mail: phillip.stewart@usace.army.mil.

SUPPLEMENTARY INFORMATION: This invention has non-government co-inventors and this announcement pertains only to the licensing of the federal government's rights, not to the rights of the non-government inventors. The technology claimed in this patent application improves a soil's resistance to deformation, prevents complete rewetting of the soil which improves freeze-thaw resistance and durability, and reduces fugitive dust. This method of stabilization provides for immediate use with no curing time necessary and is particularly effective in extreme cold climates with sandy, gravelly soils where emulsions and hydraulic cements will not effectively cure. If damaged due to extreme traffic loads or numbers, the system may be reworked and re-compacted with no loss in effectiveness. It has been demonstrated to provide cost-savings in remote locations where importation of crushed aggregate to construct pavements is costly and impractical.

Each interested party is requested to submit an application for an exclusive, partially exclusive, or non-exclusive patent license within 60 days of publication of this notice in the Federal Register. The application should contain the information described in 37 CFR 404.8. The applications will be evaluated using the following criteria:

1. Demonstrated ability to manufacture and/or market the patented technology.

2. Presentation of applicant's plan to manufacture and/or market products/systems based on the patented technology.

3. Time required to bring the item to market.

4. License fee and/or royalty payment offered.

5. Preference given to Small Business.

Brenda S. Bowen,
Army Federal Register Liaison Officer.

[FR Doc. E9-25541 Filed 10-22-09; 8:45 am]

BILLING CODE 3720-58-P